DEPARTMENT OF THE INTERIOR

Bureau of Reclamation

Change of Use for the Waterway Between Smittle Creek Day Use Area, Oak Shores Day Use Area, and Big Island at Lake Berryessa, Napa, CA

AGENCY: Bureau of Reclamation, Interior.

ACTION: Notice of change in public use.

SUMMARY: The Bureau of Reclamation Mid-Pacific Region, Central California Area Office will change public use of the Big Island area at Lake Berryessa, specifically the waterway between the Smittle Creek Day Use Area, the Oak Shores Day Use Area, and Big Island. Use will change from a gasoline-powered motorized zone to an electric trolling motor-only zone.

DATES: The change of use will become effective February 1, 2008 and continue indefinitely.

ADDRESSES: A map of the proposed change is available at Reclamation's Lake Berryessa Visitor Center, located at 5520 Knoxville Rd., Napa, California 94558. The Visitor Center is open to the public from 10 a.m. to 4 p.m., Wednesday through Sunday. The map is also on Lake Berryessa's Web site at: http://www.usbr.gov/mp/ccao/field_offices/lake_berryessa/docs/map_resort.pdf. To have a map mailed to your address, fax your request to 707-966-0409 or send your request to the above address, Attention: Big Island Change of Use Map Request.

FOR FURTHER INFORMATION CONTACT: Bureau of Reclamation, Mid-Pacific Region Public Affairs Office, at 916-978-5100, or contact Janet Rogers, Park Manager, Lake Berryessa Recreation Resource Branch at 707-966-2111 or via e-mail at jlrogers@mp.usbr.gov.

SUPPLEMENTARY INFORMATION: This action is being taken under 43 CFR part 423 to protect safety and prevent additional resource degradation. Reclamation will change public use of the Big Island Area, located within a special use area between Smittle Creek and Oak Shores Day Use Area. This change in use is consistent with the Record of Decision (ROD) for Future Recreation Use and Operations of Lake Berryessa, issued in June of 2006, section III. 6, Land and Water Use Classification. This change will serve to reduce the impacts of noise on visitors and wildlife, provide the opportunity for a more primitive recreation experience, and enhance public safety, while helping to protect the natural resources in this area.

Presently, this area is a 5 mph boating zone and is used for swimming, boating, both motorized and non-motorized, fishing, and wildlife viewing. Reclamation will designate the change of use area by placing a series of signs on buoys identifying the non-gasoline motorized zone. The public will be notified of the changes through signage, newspaper press releases, and Web site postings.

This order is posted in accordance with 43 CFR 423.60. Violation of this prohibition or any prohibition listed in 43 CFR part 423 is punishable by fine or imprisonment for not more than six months or both.

Dated: January 25, 2008.
Robert Schroeder,
Acting Area Manager, Central California Area Office.

[FR Doc. 08-649 Filed 2-12-08; 8:45 am]

BILLING CODE 4310-MN-M